PENSION BENEFIT GUARANTY CORPORATION

Privacy Act of 1974; Systems of Records

AGENCY: Pension Benefit Guaranty Corporation.

ACTION: Notice of various technical and clarifying changes to existing systems of records, publication of an additional general routine use, publication of an additional routine use for two existing systems of records, deletion of a routine use, and the publication of a new system of records.

SUMMARY: Pursuant to the Privacy Act of 1974 the Pension Benefit Guaranty Corporation (PBGC) is proposing to add an additional general routine use, add an additional routine use to PBGC-3, Employee Payroll, Leave, and Attendance Records, add an additional routine use to PBGC-19, Office of General Counsel Case Management System, delete a routine use from PBGC-22, Telework and Alternative Worksite Records, establish a new system of records, PBGC-24, Participant Debt Collection, and make various technical and clarifying changes to eighteen existing systems of records.

DATES: Comments must be received on or before October 14, 2016. The revised systems of records described herein will become effective October 31, 2016, without further notice, unless comments result in a contrary determination and a notice is published to that effect.

ADDRESSES: You may submit written comments to PBGC by any of the following methods:

• Federal eRulemaking Portal: http://www.regulations.gov. Follow the Web site instructions for submitting comments.

• Email: reg.comments@pbgc.gov.

• Fax: 202-326-4224.

• Mail or Hand Delivery: Office of the General Counsel, Pension Benefit Guaranty Corporation, 1200 K Street NW., Washington, DC 20005.

Comments received, including personal information provided, will be posted to http://www.pbgc.gov. Copies of comments may also be obtained by writing to Disclosure Division, Office of the General Counsel, Pension Benefit Guaranty Corporation, 1200 K Street NW., Washington, DC 20005, or calling 202-326-4040 during normal business hours. (TTY and TDD users may call the Federal relay service toll-free at 1-800-877-8339 and ask to be connected to 202-326-4040).

FOR FURTHER INFORMATION CONTACT: Caitlin Trujillo, Attorney, Pension Benefit Guaranty Corporation, Office of the General Counsel, 1200 K Street NW., Washington, DC 20005, 202-326-4400, extension 6281, or Sarah Smith, Attorney, Pension Benefit Guaranty Corporation, Office of the General Counsel, 1200 K Street NW., Washington, DC 20005, 202-326-4400, extension 3171. For access to any of PBGC's systems of records, contact Camilla Perry, Disclosure Officer, Office of the General Counsel, Disclosure Division, at the above address, 202-326-4040.

SUPPLEMENTARY INFORMATION:

(1) PBGC Is Proposing To Add an Additional Routine Use to Its Prefatory Statement of General Routine Uses

PBGC is proposing to add an additional routine use to its Prefatory Statement of General Routine Uses. PBGC recently received correspondence from the Office of Management and Budget (OMB) requesting that all agencies add an additional routine use to their system of records notices which allows them to provide information in their system of records to other federal agencies that may reasonably be needed to respond to a suspected or confirmed breach. This proposed routine use reflects the expanded scope of harms resulting from a breach and allows the government to more effectively respond to suspected or confirmed breaches.

General Routine Use 14 will read: “Disclosure to Another Federal Agency or Federal Entity. To another Federal agency or Federal entity, when information from this system of records is reasonably necessary to assist the recipient agency or entity in (1) responding to a suspected or confirmed breach or (2) preventing, minimizing, or remedying the risk of harm to individuals, the agency (including its information systems, programs, and operations), the Federal Government, or national security.”

(2) PBGC Is Proposing To Add an Additional Routine Use to PBGC-3, Employee Payroll, Leave, and Attendance Records

PBGC's review of its system of records notices revealed that PBGC occasionally receives data calls from the Office of Personnel Management (OPM) requesting records from PBGC-3. In order to permit PBGC to provide the relevant records to OPM, PBGC is proposing to add a new routine use to PBGC-3.

Routine Use 4 will read: “Information from this system of records may be disclosed to the Office of Personnel Management pursuant to that agency's responsibility for the evaluation and oversight of Federal personnel management.”

(3) PBGC Is Proposing To Add an Additional Routine Use to PBGC-19, Office of General Counsel Case Management System

PBGC is proposing to add an additional routine use to PBGC-19. PBGC recently received correspondence from the Office of Government Information Services (OGIS) requesting that PBGC add an OGIS routine use to its Freedom of Information Act (FOIA)/Privacy Act (PA) system of records notice. PBGC uses FOIAonline (https://foiaonline.regulations.gov/) to process all of its FOIA and PA requests. FOIAonline is an Environmental Protection Agency (EPA) system and is covered by EPA-9. Therefore, PBGC does not have its own system of records dedicated solely to FOIA and PA records. PBGC does however, store and maintain its FOIA and PA administrative appeals and responses in PBGC-19. Accordingly, PBGC proposes to add an additional routine use to PBGC-19, which will enable OGIS to more effectively carry out its statutory mission and will also provide requesters with easier access to the dispute resolution process.

Routine Use 10 will read: “A record from this system of records may be disclosed to the National Archives and Records Administration, Office of Government Information Services (OGIS), to the extent necessary to fulfill its responsibilities in 5 U.S.C. 552(h), to review administrative agency policies, procedures and compliance with the Freedom of Information Act, and to facilitate OGIS' offering of mediation services to resolve disputes between persons making FOIA requests and administrative agencies.”

(4) PBGC Is Proposing To Remove a Routine Use From PBGC-22, Telework and Alternative Worksite Records

In the process of reviewing its system of records notices, PBGC determined that Routine Use 2 in PBGC-22 is unnecessary. Routine 2 use states: “A record from this system may be disclosed to medical professionals to obtain information about an employee's medical background necessary to grant or deny approval of medical telework.” However, this system of records does not contain records pertaining to medical telework. Medical telework records are only contained in PBGC-21 and therefore, the routine use is unnecessary.

(5) PBGC Is Proposing To Establish a New System of Records, PBGC-24, Participant Debt Collection

In the process of reviewing its system of records notices, PBGC determined that two systems at PBGC perform debt collection activities. PBGC determined that it was necessary to publish an additional system of records notice to describe the participant debt collection activities performed by PBGC's Office of Benefits Administration in addition to PBGC's current debt collection system of records, PBGC-13, which covers the debt collection activities performed by PBGC's Financial Operations Department.

(6) PBGC Is Proposing Various Technical and Clarifying Changes to Eighteen Existing Systems of Records

In the process of reviewing its system of records notices, PBGC determined it was necessary to make various technical and clarifying changes to all eighteen of its existing systems of records notices. These amendments, which are non-substantive, will make the systems of records notices more accurate and easier to understand, individually, and when read together.

Pursuant to 5 U.S.C. 552a(e)(11), interested persons are invited to submit written comments on the proposal of these systems of records. A report on the proposed systems has been sent to Congress and the Office of Management and Budget for their evaluation.

For the convenience of the public, PBGC's Prefatory Statement of General Routine Uses, the amended systems of records, and the new system of records are published in full below with changes italicized.

Issued in Washington, DC this 17th day of August, 2016.
W. Thomas Reeder,
Director, Pension Benefit Guaranty Corporation.

Prefatory Statement of General Routine Uses

The following routine uses are incorporated by reference into various systems of records, as set forth below.

G1. Routine Use—Law Enforcement: In the event that a system of records maintained by PBGC to carry out its functions indicates a violation or potential violation of law, whether criminal, civil, or regulatory in nature, and whether arising by general statute or particular program pursuant thereto, the relevant records in the system of records may be disclosed to the appropriate agency, whether federal, state, local, or foreign, charged with the responsibility of investigating or prosecuting such violation or charged with enforcing or implementing the statute, rule, regulation, or order issued pursuant thereto.

G2. Routine Use—Disclosure When Requesting Information: A record from this system of records may be disclosed to a federal, state, or local agency or to another public or private source maintaining civil, criminal, or other relevant enforcement information or other pertinent information if, and to the extent necessary, to obtain information relevant to a PBGC decision concerning the hiring or retention of an employee, the retention of a security clearance, or the letting of a contract.

G3. Routine Use—Disclosure of Existence of Record Information: With the approval of the Director, Human Resources Department (or his or her designee), the fact that this system of records includes information relevant to a Federal agency's decision in connection with the hiring or retention of an employee, the retention of a security clearance, the letting of a contract, or the issuance of a license, grant, or other benefit may be disclosed to that federal agency.

G4. Routine Use—Disclosure in Litigation: A record from this system of records may be disclosed in a proceeding before a court or other adjudicative body in which PBGC, an employee of PBGC in his or her official capacity, an employee of PBGC in his or her individual capacity whom PBGC (or the Department of Justice (DOJ)) has agreed to represent is a party, or the United States or any other federal agency is a party and PBGC determines that it has an interest in the proceeding, and if PBGC determines that the record is relevant to the proceeding and that the use is compatible with the purpose for which PBGC collected the information.

G5. Routine Use—Disclosure to DOJ in Litigation: When PBGC, an employee of PBGC in his or her official capacity, or an employee of PBGC in his or her individual capacity whom PBGC (or DOJ) has agreed to represent is a party to a proceeding before a court or other adjudicative body, or the United States or any other federal agency is a party and PBGC determines that it has an interest in the proceeding, a record from this system of records may be disclosed to DOJ if PBGC is consulting with DOJ regarding the proceeding or has decided that DOJ will represent PBGC, or its interest, in the proceeding and PBGC determines that the record is relevant to the proceeding and that the use is compatible with the purpose for which PBGC collected the information.

G6. Routine Use—Disclosure to the Office of Management and Budget (OMB): A record from this system of records may be disclosed to OMB in connection with the review of private relief legislation as set forth in OMB Circular No. A-19 at any stage of the legislative coordination and clearance process as set forth in that Circular.

G7. Routine Use—Congressional Inquiries: A record from this system of records may be disclosed to a congressional office in response to an inquiry from the congressional office made at the request of the individual.

G8. Routine Use—Disclosure to Labor Organizations: A record from this system of records may be disclosed to an official of a labor organization recognized under 5 U.S.C. ch. 71 when necessary for the labor organization to properly perform its duties as the collective bargaining representative of PBGC employees in the bargaining unit.

G9. Routine Use—Disclosure in Response to a Breach: A record from this system of records may be disclosed to appropriate agencies, entities, and persons when (1) PBGC suspects or has confirmed that there has been a breach of the system of records; (2) PBGC has determined that as a result of the suspected or confirmed breach there is a risk of harm to individuals, the agency (including its information systems, programs and operations), the Federal Government, or national security; and (3) the disclosure made to such agencies, entities, and persons is reasonably necessary to assist in connection with PBGC's efforts to respond to the suspected or confirmed breach or to prevent, minimize, or remedy such harm.

G10. Routine Use—Contractors, Experts, and Consultants: To contractors, experts, consultants, and the agents thereof, and others performing or working on a contract, service, cooperative agreement, or other assignment for PBGC when necessary to accomplish an agency function. Individuals provided information under this routine use are subject to the same Privacy Act requirements and limitations on disclosure as are applicable to PBGC employees.

G11. Routine Use—Records Management: To the National Archives and Records Administration or to the General Services Administration for records management inspections conducted under 44 U.S.C. 2904 and 2906.

G12. Routine Use—Gathering Information: To any source from which information is requested in the course of processing a grievance, investigation, arbitration, or other litigation, to the extent necessary to identify the individual, inform the source of the purpose(s) of the request, and identify the type of information requested.

G13. Routine Use—Disclosure to a Federal Agency: To disclose information to a Federal agency, in response to its request, in connection with hiring or retaining an employee, issuing a security clearance, conducting a security or suitability investigation of an individual, or classifying jobs, to the extent that the information is relevant and necessary to the requesting agency's decision on the matter.

G14. Routine Use—Disclosure to Another Federal Agency or Federal Entity in Response to a Breach: To another Federal agency or Federal entity, when information from this system of records is reasonably necessary to assist the recipient agency or entity in (1) responding to a suspected or confirmed breach or (2) preventing, minimizing, or remedying the risk of harm to individuals, the agency (including its information systems, programs, and operations), the Federal Government, or national security.

PBGC-1: Congressional Correspondence

System Name:

Congressional Correspondence—PBGC.

Security Classification:

None.

System Location:

PBGC, 1200 K Street NW., Washington, DC 20005.

Records may also be kept at an additional location as backup for Continuity of Operations.

Categories of Individuals Covered by the System:

Individuals who have corresponded with PBGC.

Categories of Records in the System:

Correspondence received; replies to such correspondence.

Authority for Maintenance of the System:

29 U.S.C. 1302; 44 U.S.C. 3101; and 5 U.S.C. 301.

Purpose(s):

This system of records is maintained to catalog and respond to correspondence received from members of Congress.

Routine Uses of Records Maintained in the System, Including Categories of Users and the Purposes of Such Uses:

Information about covered individuals may be disclosed without consent as permitted by the Privacy Act of 1974, 5 U.S.C. 552a(b), and:

1. General Routine Uses G1 through G11, and G14 apply to this system of records (see Prefatory Statement of General Routine Uses).

Policies and Practices for Storing, Retrieving, Accessing, Retaining, and Disposing of Records in the System:

Storage:

Records are maintained manually in paper and/or electronic form, including computer databases, magnetic tapes, and discs. Records are also maintained on PBGC's network back-up tapes.

Retrievability:

Records are retrieved by name of the correspondent.

Safeguards:

PBGC has adopted appropriate administrative, technical, and physical controls in accordance with PBGC's security program to protect the security, integrity, and availability of the information, and to ensure that records are not disclosed to or accessed by unauthorized individuals.

Paper records are kept in file cabinets in areas of restricted access that are locked after office hours. Electronic records are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Director, Communications Outreach and Legislative Affairs, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Correspondents; agency employees preparing responses to incoming correspondence or who generate original correspondence in their official capacities.

Exemptions Claimed for the System:

None.

PBGC-2: Disbursements

System Name:

Disbursements—PBGC.

Security Classification:

None.

System Location:

PBGC, 1200 K Street NW., Washington, DC 20005, and/or field benefit administrators, plan administrator, and paying agent worksites.

Records may also be kept at an additional location as backup for Continuity of Operations.

Categories of Individuals Covered by the System:

Individuals who are consultants and vendors to PBGC; PBGC employees; and any other individuals who receive payments from PBGC.

Categories of Records in the Systems:

Acquisition data for the procurement of goods and services; invoices; payment vouchers; Commercial and Government Entity (CAGE) codes; Dun & Bradstreet Data Universal Numbering System (DUNS) numbers; supplier status; Web site; name; address; taxpayer identification number; bank information; Social Security number; and other information related to the disbursements of funds.

Authority for Maintenance of the System:

29 U.S.C. 1302; 44 U.S.C. 3101; 5 U.S.C. 301; 31 U.S.C. 6101.

Purpose(s):

This system of records is maintained for use in determining amounts to be paid and in effecting payments by the Department of the Treasury on behalf of PBGC.

Routine Uses of Records Maintained in the System, Including Categories of Users and the Purposes of Such Uses:

Information about covered individuals may be disclosed without consent as permitted by the Privacy Act of 1974, 5 U.S.C. 552a(b), and:

1. General Routine Uses G1 through G7, G9 through G12, and G14 apply to this system of records (see Prefatory Statement of General Routine Uses).

2. A record from this system of records may be transmitted to the United States Department of the Treasury to effect payments to consultants and vendors, to verify consultants' and vendors' eligibility to receive payments, or to fulfill PBGC's requirement pursuant to the Digital Accountability and Transparency Act of 2014.

Policies and Practices for Storing, Retrieving, Accessing, Retaining, and Disposing of Records in the System:

Storage:

Records are maintained by PBGC in paper and/or electronic form, including computer databases, magnetic tapes, and discs. Records are also maintained on PBGC's network back-up tapes.

Retrievability:

Records are retrieved by any one or more of the following: Name, tax payer identification number; and contract number.

Safeguards:

PBGC has adopted appropriate administrative, technical, and physical controls in accordance with PBGC's security program to protect the security, integrity, and availability of the information, and to ensure that records are not disclosed to or accessed by unauthorized individuals.

Paper records are kept in file cabinets in areas of restricted access that are locked after office hours. Electronic records are stored on computer networks and are protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Director, Financial Operations Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals and PBGC.

Exemptions Claimed for the System:

None.

PBGC-3: Employee Payroll, Leave, and Attendance Records

System Name:

Employee Payroll, Leave, and Attendance Records—PBGC.

Security Classification:

None.

System Location:

PBGC, 1200 K Street NW., Washington, DC 20005.

Records may also be kept at an additional location as backup for Continuity of Operations.

Categories of Individuals Covered by the System:

Current and former PBGC employees.

Categories of Records in the System:

Personnel information, including names, addresses, social security numbers, employee numbers, dates of birth, and notifications of personnel actions; payroll information, including co-owner and/or beneficiary of bonds, marital status and number of dependents, child support enforcement court orders, debts owed to PBGC, garnishments, personal bank account and direct deposit information, tax information, and other deductions; salary data; fiscal year data; and time and attendance records.

Authority for Maintenance of the System:

29 U.S.C. 1302; 44 U.S.C. 3101; 5 U.S.C. 301.

Purpose(s):

This system of records is maintained to perform agency functions involving employee leave, attendance, and payments, including determinations relating to the amounts to be paid to employees, the distribution of pay according to employee directions (for allotments to financial institutions, and for other authorized purposes), tax withholdings and other authorized deductions, and for statistical purposes.

Routine Uses of Records Maintained in the System, Including Categories of Users and the Purposes of Such Uses:

Information about covered individuals may be disclosed without consent as permitted by the Privacy Act of 1974, 5 U.S.C. 552a(b), and:

1. General Routine Uses G1 through G14 apply to this system of records (see Prefatory Statement of General Routine Uses).

2. A record from this system of records may be disclosed to the United States Department of the Interior, the United States Department of Labor, and the United States Department of the Treasury to effect payments to employees.

3. Payments owed to PBGC through current and former employees may be shared with the Department of the Interior for the purposes of offsetting the employee's salary. Payments owed to PBGC through current and former employees who become delinquent in repaying the necessary funds may be shared with the Department of Treasury for the purposes of offsetting the employee's salary.

4. Information from this system of records may be disclosed to the Office of Personnel Management pursuant to that agency's responsibility for the evaluation and oversight of Federal personnel management.

Policies and Practices for Storing, Retrieving, Accessing, Retaining, and Disposing of Records in the System:

Storage:

Records are maintained in paper and/or electronic form, including computer databases, magnetic tapes, and discs. Records are also maintained on PBGC's network back-up tapes.

Retrievability:

Records are retrieved by any one or more of the following: Name; employee number; or social security number.

Safeguards:

PBGC has adopted appropriate administrative, technical, and physical controls in accordance with PBGC's security program to protect the security, integrity, and availability of the information, and to ensure that records are not disclosed to or accessed by unauthorized individuals.

Paper records are kept in file cabinets in areas of restricted access that are locked after office hours. Electronic records are stored on computer networks and protected by assigning both network and system-specific user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Director, Financial Operations Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals; subject individuals' supervisor(s); subject individuals' timekeeper(s); the Department of the Interior, Interior Business Center, and the Office of Personnel Management.

Exemptions Claimed for the System:

None.

PBGC-6: Plan Participant and Beneficiary Data

System Name:

Plan Participant and Beneficiary Data—PBGC.

Security Classification:

None.

System Location:

PBGC, 1200 K Street NW., Washington, DC 20005, and/or field benefit administrators, plan administrator, and paying agent worksites.

Records may also be kept at an additional location as backup for Continuity of Operations.

Categories of Individuals Covered by the System:

Participants, alternate payees, beneficiaries in terminated and non-terminated pension plans covered by the Employee Retirement Income Security Act of 1974 (ERISA), and other individuals who contact PBGC regarding benefits they may be owed from PBGC.

Categories of Records in the System:

Names; addresses; telephone numbers; email addresses; sex; social security numbers and other Social Security Administration (SSA) information; dates of birth and death; dates of hire; salary; employment history; marital status; domestic relations orders; time of plan participation; eligibility status; pay status; benefit data, including records of benefit payments made to participants, alternate payees, and beneficiaries in terminating and terminated pension plans covered by ERISA; health-related information; powers of attorney; insurance information where plan benefits are provided by private insurers; pension plan names and numbers; initial and final PBGC determinations (see 29 CFR 4003.21 and 4003.59); and other records relating to debts owed to PBGC.

Authority for Maintenance of the System:

29 U.S.C. 1055, 1056(d)(3), 1302, 1321, 1322, 1322a, 1341, 1342, and 1350; 26 U.S.C. 6103; 44 U.S.C. 3101; 5 U.S.C. 301.

Purpose(s):

This system of records is maintained for use in determining whether participants, alternate payees, and beneficiaries are eligible for benefits under plans covered by ERISA, determining supplemental payments to be paid to those persons by a party other than PBGC, determining the amounts of benefits to be paid, making benefit payments, collecting benefit overpayments, and complying with statutory and regulatory mandates.

Names, addresses, and telephone numbers are used to survey customers to measure their satisfaction with PBGC's benefit payment services and to track (for follow-up) those who do not respond to surveys.

Routine Uses of Records Maintained in the System, Including Categories of Users and the Purposes of Such Uses:

Information about covered individuals may be disclosed without consent as permitted by the Privacy Act of 1974, 5 U.S.C. 552a(b), and:

General Routine Uses G1, G2, G4 through G7, G9 through G12, and G14 apply to this system of records (see Prefatory Statement of General Routine Uses).

1. A record from this system of records may be disclosed to third parties, such as banks, insurance companies, or trustees:

a. To enable these third parties to make or determine benefit payments, or

b. To report to the Internal Revenue Service (IRS) the amounts of benefits paid (or required to be paid) and taxes withheld.

2. A record from this system of records may be disclosed, in furtherance of proceedings under Title IV of ERISA, to a contributing sponsor (or other employer who maintained the plan), including any predecessor or successor, and any member of the same controlled group.

3. A record from this system of records may be disclosed, upon request for a purpose authorized under Title IV of ERISA, to an official of a labor organization recognized as the current or former collective bargaining representative of the individual about whom a request is made.

4. Payees' names, addresses, telephone numbers, and information related to how PBGC determined that a debt was owed by such payees to PBGC may be disclosed to the Department of the Treasury or a debt collection agency or firm to collect a claim. Disclosure to a debt collection agency or firm shall be made only under a contract issued by the federal government that binds any such contractor or employee of such contractor to the penalties of the Privacy Act. The information so disclosed shall be used exclusively pursuant to the terms and conditions of such contract and shall be used solely for the purposes prescribed therein. The contract shall provide that the information so disclosed shall be returned at the conclusion of the debt collection effort.

5. The name and social security number of a participant employed or formerly employed as a pilot by a commercial airline may be disclosed to the Federal Aviation Administration (FAA) to obtain information relevant to the participant's eligibility or continued eligibility for disability benefits.

6. The name of a participant's pension plan, the actual or estimated amount of a participant's benefit under Title IV of ERISA, the form(s) in which the benefit is payable, and whether the participant is currently receiving benefit payments under the plan or (if not) the earliest date(s) such payments could commence may be disclosed to the participant's spouse, former spouse, child, or other dependent solely to obtain a qualified domestic relations order under 29 U.S.C. 1056(d) and 26 U.S.C. 414(p). PBGC will disclose the information only upon the receipt of a written request by a prospective alternate payee, or the payee's representative, that describes the requester's relationship to the participant and states that the information will be used solely to obtain a qualified domestic relations order under state domestic relations law. PBGC will notify the participant of any information disclosed to a prospective alternate payee or their representative under this routine use.

7. Information from a participant's initial determination under 29 CFR 4003.1 (excluding the participant's address, telephone number, social security number, and any sensitive medical information) may be disclosed to an alternate payee, or their representative, under a qualified domestic relations order issued pursuant to 29 U.S.C. 1056(d) and 26 U.S.C. 414(p) to explain how PBGC determined the benefit due the alternate payee so that the alternate payee can pursue an administrative appeal of the benefit determination under 29 CFR 4003.51 et seq. PBGC may notify the participant of the information disclosed to an alternate payee or their representative under this routine use.

8. Information from an alternate payee's initial determination under 29 CFR 4003.1 (excluding the alternate payee's address, telephone number, social security number, and any sensitive medical information) may be disclosed to a participant, or their representative, under a qualified domestic relations order issued pursuant to 29 U.S.C. 1056(d) and 26 U.S.C. 414(p) to explain how PBGC determined the benefit due the participant so that the participant can pursue an administrative appeal of the benefit determination under 29 CFR 4003.51 et seq. PBGC may notify the alternate payee of the information disclosed to a participant or their representative under this routine use.

9. Information used in calculating the benefit, or share of the benefit, of a participant or alternate payee (excluding the participant's or alternate payee's address, telephone number, social security number, and any sensitive medical information) may be disclosed to a participant or an alternate payee, or their representative, when (a) a qualified domestic relations order issued pursuant to 29 U.S.C. 1056(d) and 26 U.S.C. 414(p) affects the calculation of the benefit, or share of the benefit, of the participant or alternate payee; and (b) the information is needed to explain to the participant or alternate payee how PBGC calculated the benefit, or share of the benefit, of the participant or alternate payee. PBGC may notify the participant or the alternate payee, or their representative, as appropriate, of the information disclosed to the participant or the alternate payee, or their representative, under this routine use.

10. The names, addresses, social security numbers, dates of birth, and the pension plan name and number of eligible PBGC pension recipients may be disclosed to the Department of the Treasury and the Department of Labor to implement the income tax credit for health insurance costs under 26 U.S.C. 35 and the program for advance payment of the tax credit under 26 U.S.C. 7527.

11. Names, addresses, social security numbers, and dates of birth of eligible PBGC pension recipients residing in a particular state may be disclosed to the state's workforce agency if the agency received a National Dislocated Worker Grant from the Department of Labor under the Workforce Innovation and Opportunity Act of 2014 to provide assistance and support services for state residents under 29 U.S.C. ch. 32.

12. Payees' names, social security numbers, and dates of birth may be provided to the Department of the Treasury's Bureau of the Public Debt, the SSA, and the IRS to verify payees' eligibility to receive payments.

13. Names and social security numbers of participants and beneficiaries may be provided to the Department of the Treasury, the Department of the Treasury's financial agent, and the Federal Reserve Bank for the purpose of learning which of PBGC's check payees have electronic debit card accounts used for the electronic deposit of federal benefit payments, for establishing electronic debit card accounts for eligible participants and beneficiaries, and for administering payments to participants and beneficiaries who have selected this method of payment.

14. Information relating to revocation of a power of attorney may be disclosed to the former agent that was named in the revoked power of attorney.

15. The name and date of birth of a participant's beneficiary may be provided to that participant upon request by that participant.

16. Names, social security numbers, last known addresses, dates of birth and death, amount of benefit, pension plan name, plan EIN/PIN number, name of plan sponsor, and the city and state of the plan sponsor of plan participants and beneficiaries may be disclosed to private firms and agencies that provide locator services (including credit reporting agencies and debt collection firms or agencies) to locate participants and beneficiaries. Such information will be disclosed only if PBGC has no address for an individual, if mail sent to the individual at the last known address is returned as undeliverable, or if PBGC has been otherwise unsuccessful at contacting the individual. Disclosure shall be made only under a contract that subjects the firm or agency providing the service and its employees to the criminal penalties of the Privacy Act. The information so disclosed shall be used exclusively pursuant to the terms and conditions of such contract and shall be used solely for the purposes prescribed therein. The contract shall provide that the information so disclosed shall be returned or destroyed at the conclusion of the locating effort.

17. Names, social security numbers, last known addresses, dates of birth and death, employment history, and pay status of individuals covered by legal settlement agreements involving PBGC may be disclosed to entities covered by or created under those agreements.

Policies and Practices for Storing, Retrieving, Accessing, Retaining, and Disposing of Records in the System:

Storage:

Records are maintained in paper and/or electronic form, including computer databases, magnetic tapes, microfiche, and discs. Records are also maintained on PBGC's network back-up tapes.

Retrievability:

Records are retrieved by any one or more of the following: Name; social security number; customer identification number; date of birth; or date of death.

Safeguards:

PBGC has adopted appropriate administrative, technical, and physical controls in accordance with PBGC's security program to protect the security, integrity, and availability of the information, and to ensure that records are not disclosed to or accessed by unauthorized individuals.

Paper and electronic records that contain federal tax information are stored under procedures that meet IRS safeguarding standards.

Other paper and microfiche records that do not contain federal tax information are kept in file folders in areas of restricted access that are locked after office hours. Electronic records that do not contain federal tax information are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Chief of Benefits Administration, Office of Benefits Administration, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Plan administrators; participants, alternate payees, beneficiaries, and other individuals who contact PBGC regarding benefits they may be owed from PBGC; agents listed on power of attorneys; agents listed on release forms, field benefit administrators; the SSA; the FAA; and the IRS.

Exemptions Claimed for the System:

None.

PBGC-8: Employee Relations Files

System Name:

Employee Relations Files—PBGC.

Security Classification:

None.

System Location:

PBGC, 1200 K Street NW., Washington, DC 20005.

Records may also be kept at an additional location as backup for Continuity of Operations.

Categories of Individuals Covered by the System:

Current and former PBGC employees who have initiated grievances under an administrative grievance procedure or under an applicable collective bargaining agreement.

Categories of Records in the System:

Administrative and union grievances submitted by PBGC employees; agency responses to employees' grievances; employees' appeals of responses to grievances; agency responses to such appeals; investigative notes; records of proceedings; appeal decisions; last chance, last rights, and settlement agreements, and related information.

Authority for Maintenance of the System:

29 U.S.C. 1302; 44 U.S.C. 3101; 5 U.S.C. 301; 5 U.S.C.7101; 42 U.S.C. 2000e et seq.

Purpose(s):

The purpose of this system is to catalog, investigate, and appropriately and timely respond to administrative and union grievances and appeals filed by PBGC employees pursuant to PBGC's Administrative Grievance Procedure and the Collective Bargaining Agreement.

Routine Uses of Records Maintained in the System, Including Categories of Users and the Purposes of Such Uses:

Information about covered individuals may be disclosed without consent as permitted by the Privacy Act of 1974, 5 U.S.C. 552a(b), and:

1. General Routine Uses G1 through G14 apply to this system of records (see Prefatory Statement of General Routine Uses).

2. A record from this system of records may be disclosed to the Office of Personnel Management, the Merit Systems Protection Board, the Federal Labor Relations Authority, Office of Special Counsel, or the Equal Employment Opportunity Commission to carry out their authorized functions (under 5 U.S.C. 1103, 1204, 7105, and 42 U.S.C. 2000e-4, in that order).

Policies and Practices for Storing, Retrieving, Accessing, Retaining, and Disposing of Records in the System:

Storage:

Records are maintained in paper form in file folders and/or in electronic form, including computer databases, magnetic tapes, and discs. Records are also maintained on PBGC's network back-up tapes.

Retrievability:

Records are retrieved by employee name.

Safeguards:

PBGC has adopted appropriate administrative, technical, and physical controls in accordance with PBGC's security program to protect the security, integrity, and availability of the information, and to ensure that records are not disclosed to or accessed by unauthorized individuals.

Paper records are kept in areas of restricted access that are locked after office hours. Electronic records are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Director, Human Resources Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals; subject individuals' supervisor(s), representative(s), and colleagues; PBGC Office of the General Counsel; and other individuals with relevant information.

Exemptions Claimed for the System:

Pursuant to 5 U.S.C. 552a(k)(2), records in this system are exempt from the requirements of subsections (c)(3), (d), (e)(1), (e)(4) (G), (H), (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government with an express promise that the identity of the source would be held in confidence.

PBGC-9: Unclaimed Pensions

System Name:

Unclaimed Pensions—PBGC.

Security Classification:

None.

System Location:

PBGC, 1200 K Street NW., Washington, DC 20005 and/or field benefit administrators, and paying agent worksites.

Records may also be kept at an additional location as backup for Continuity of Operations.

Categories of Individuals Covered by the System:

Participants, alternate payees, and beneficiaries in terminated and non-terminated pension plans covered by the Employee Retirement Income Security Act of 1974 (ERISA).

Categories of Records in the System:

Names; dates of birth and death; social security numbers; addresses; email addresses; telephone numbers; name of plan sponsor; pension plans names; pension plan numbers; employment history; and pay status.

Authority for Maintenance of the System:

29 U.S.C. 1055, 1056(d)(3), 1302, 1321, 1322, 1322a, 1341, 1342, and 1350; 29 U.S.C. 1203; 44 U.S.C. 3101; 5 U.S.C. 301.

Purpose(s):

This system of records is maintained to locate participants, alternate payees, and beneficiaries of pension plans covered by ERISA.

Routine Uses of Records Maintained in the System, Including Categories of Users and the Purposes of Such Uses:

Information about covered individuals may be disclosed without consent as permitted by the Privacy Act of 1974, 5 U.S.C. 552a(b), and:

1. General Routine Uses G1, G4 through G7, G9 through G11, and G14 apply to this system of records (see Prefatory Statement of General Routine Uses).

2. Names and social security numbers of plan participants and beneficiaries may be disclosed to the Internal Revenue Service (IRS) to obtain current addresses from tax return information and to the Social Security Administration (SSA) to obtain current addresses. Such information will be disclosed only if PBGC has no address for an individual or if mail sent to the individual at the last known address is returned as undeliverable.

3. Names and last known addresses may be disclosed to an official of a labor organization recognized as the collective bargaining representative of participants for posting in union halls or for other means of publication to obtain current addresses of participants and beneficiaries. Such information will be disclosed only if PBGC has no address for an individual or if mail sent to the individual at the last known address is returned as undeliverable.

4. Names, social security numbers, last known addresses, dates of birth and death, amount of benefit, pension plan name, plan EIN/PIN number, name of plan sponsor, and the city and state of the plan sponsor of plan participants and beneficiaries may be disclosed to private firms and agencies that provide locator services, including credit reporting agencies and debt collection firms or agencies, to locate participants and beneficiaries. Such information will be disclosed only if PBGC has no address for an individual, if mail sent to the individual at the last known address is returned as undeliverable or if PBGC has been otherwise unsuccessful at contacting the individual. Disclosure shall be made only under a contract that subjects the firm or agency providing the service and its employees to the criminal penalties of the Privacy Act. The information so disclosed shall be used exclusively pursuant to the terms and conditions of such contract and shall be used solely for the purposes prescribed therein. The contract shall provide that the information so disclosed shall be returned or destroyed at the conclusion of the locating effort.

5. Names and addresses may be disclosed to licensees of the United States Postal Service (USPS) to obtain current addresses under the USPS's National Change of Address Linkage System (NCOA). Disclosure shall be made only under a contract that binds the licensee of the Postal Service and its employees to the criminal penalties of the Privacy Act. The contract shall provide that the records disclosed by PBGC shall be used exclusively for updating addresses under NCOA and must be returned to PBGC or destroyed when the process is completed. The records will be exchanged electronically in an encrypted format.

6. Names and last known addresses may be disclosed to other participants in, and beneficiaries under, a pension plan to obtain the current addresses of individuals. Such information will be disclosed only if PBGC has no address for an individual or if mail sent to the individual at the last known address is returned as undeliverable.

7. Names and last known addresses of participants and beneficiaries, and the names and addresses of participants' former employers, may be disclosed to the public to obtain current addresses of the individuals. Such information will be disclosed to the public only if PBGC is unable to make benefit payments to the participants and beneficiaries because the address it has does not appear to be current or correct.

7. Names, social security numbers, last known addresses, dates of birth and death, employment history, and pay status of individuals covered by legal settlement agreements involving PBGC may be disclosed to entities covered by or created under those agreements.

Policies and Practices for Storing, Retrieving, Accessing, Retaining, and Disposing of Records in the System:

Storage:

Records are maintained in paper and/or in electronic form, including computer databases, magnetic tapes, microfiche, and discs. Records are also maintained on PBGC's network back-up tapes.

Retrievability:

Records are retrieved by any one or more of the following: Name; social security number; customer identification number; date of birth; or date of death.

Safeguards:

PBGC has adopted appropriate administrative, technical, and physical controls in accordance with PBGC's security program to protect the security, integrity, and availability of the information, and to ensure that records are not disclosed to unauthorized individuals.

Paper and electronic records that contain federal tax information are stored under procedures that meet IRS safeguarding standards.

Other paper and microfiche records that do not contain federal tax information are kept in file folders in areas of restricted access that are locked after office hours. Electronic records that do not contain federal tax information are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Director of the Participant Services Department, Office of Benefits Administration, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

PBGC-6; the SSA; the IRS; labor organization officials; firms or agencies providing locator services; USPS licensees; field benefit administrators; and any other individual that provides PBGC with information regarding a missing participant, beneficiary, or alternate payee.

Exemptions Claimed for the System:

None.

PBGC-10: Administrative Appeals Files

System Name:

Administrative Appeals Files—PBGC.

Security Classification:

None.

System Location:

PBGC, 1200 K Street NW., Washington, DC 20005.

Records may also be kept at an additional location as backup for Continuity of Operations.

Categories of Individuals Covered by the System:

Individuals who file administrative appeals with PBGC's Appeals Board.

Categories of Records in the System:

Names and personal information (such as addresses, social security numbers, sex, dates of birth, dates of hire, salary, marital status (including domestic relations orders), and medical records); employment and pension plan information (such as name of pension plan, plan number, dates of commencement of plan participation or employment, statements regarding employment, dates of termination of plan participation or retirement, benefit payment data, pay status, calculations of benefit amounts, calculations of amounts subject to recoupment and/or recovery, and workman's compensation awards); Social Security Administration (SSA) information, insurance claims and awards; correspondence and other information relating to appeals and initial and final PBGC determinations.

Authority for Maintenance of the System:

29 U.S.C. 1302; 44 U.S.C. 3101; 5 U.S.C. 301; 29 U.S.C. ch.18.; 29 CFR 4003.1(b) and (c); 29 CFR 4003.

Purpose(s):

The purpose of this system is to catalog, review, and respond to administrative appeals of: Determinations that a plan is not covered under section 4021 of the Employee Retirement Income Security Act of 1974 (ERISA); determinations of benefit entitlements under section 4022(a) or (c) of ERISA; determinations that a domestic relations order is or is not a qualified domestic relations order under section 206(d)(3) of ERISA or section 414(p) of the Internal Revenue Code; determinations of benefits payable under section 4022(b) or (c) or 4022B of ERISA; and determinations of the amount of liability under sections 4062(b)(1), 4063, or 4064 of ERISA.

Routine Uses of Records Maintained in the System, Including Categories of Users and the Purposes of Such Uses:

Information about covered individuals may be disclosed without consent as permitted by the Privacy Act of 1974, 5 U.S.C. 552a(b), and:

1. General Routine Uses G1, and G4 through G12, and G14 apply to this system of records (see Prefatory Statement of General Routine Uses).

2. A record from this system of records may be disclosed to third parties who may be aggrieved by the decision of the Appeals Board under 29 CFR 4003.57.

3. A record from this system of records may be disclosed, upon request, to an attorney representative or a non-attorney representative who has a power of attorney for the subject individuals, under 29 CFR 4003.6.

4. A record from this system of records may be disclosed to third parties, such as banks, insurance companies, and trustees, to make benefit payments to plan participants, beneficiaries, and/or alternate payees.

5. A record from this system of records may be disclosed to third parties, such as contractors and expert witnesses, to obtain expert analysis of an issue necessary to resolve an appeal.

6. The name and social security number of a participant may be disclosed to an official of a labor organization recognized as the collective bargaining representative of the participant to obtain information relevant to the resolution of an appeal.

Policies and Practices for Storing, Retrieving, Accessing, Retain and Disposing of Records in the System:

Storage:

Records are maintained in paper and/or electronic form, including computer databases, magnetic tapes, and discs. Records are also maintained on PBGC's network back-up tapes.

Retrievability:

Records are retrieved by any one or more of the following: Participant, beneficiary, and/or alternate payee's name; plan name; appeal number; or extension request number.

Safeguards:

PBGC has adopted appropriate administrative, technical, and physical controls in accordance with PBGC's security program to protect the security, integrity, and availability of the information, and to ensure that records are not disclosed to or accessed by unauthorized individuals.

Paper records are kept in file folders in areas of restricted access that are locked after office hours. Electronic records are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Manager of the Appeals Division, Office of the General Counsel, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals; the participant, beneficiary, or alternate payee; plan administrators, contributing sponsors (or other employer who maintained the plan), including any predecessor, successor, or member of the same controlled group; the labor organization recognized as the collective bargaining representative of a participant; the SSA; and any third party affected by the decision.

Exemptions Claimed for the System:

None.

PBGC-11: Call Detail Records

System Name:

Call Detail Records—PBGC.

Security Classification:

None.

System Location:

PBGC, 1200 K Street NW., Washington, DC 20005.

Records may also be kept at an additional location as backup for Continuity of Operations.

Categories of Individuals Covered by the System:

PBGC employees and contractor employees.

Categories of Records in the System:

Records relating to the use of PBGC telephones and PBGC-issued portable electronic devices to place calls outside of PBGC and receive calls from outside of PBGC and records indicating the assignment of telephone extension numbers and PBGC-issued portable electronic devices to PBGC employees.

Authority for Maintenance of the System:

29 U.S.C. 1302; 44 U.S.C. 3101; 5 U.S.C. 301.

Purpose(s):

This system of records is used for Office of the Inspector General (OIG) investigations and other special investigation requests.

Routine Uses of Records Maintained in the System, Including Categories of Users and the Purposes of Such Uses:

Information about covered individuals may be disclosed without consent as permitted by the Privacy Act of 1974, 5 U.S.C. 552a(b), and:

1. General Routine Uses G1, G3, G4, G5, and G7 through G14 apply to this system of records (see Prefatory Statement of General Routine Uses).

Policies and Practices for Storing, Retrieving, Accessing, Retaining, and Disposing of Records in the System:

Storage:

Records are maintained in electronic form, including computer databases, magnetic tapes, and discs.

Retrievability:

Records are retrieved by one or more of the following: name of employee or contractor employee; telephone extension number; PBGC-issued portable electronic device number; or telephone number called.

Safeguards:

PBGC has adopted appropriate administrative, technical, and physical controls in accordance with PBGC's security program to protect the security, integrity, and availability of information, and to ensure that records are not disclosed to or accessed by unauthorized individuals.

Electronic records are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on computer storage media are destroyed according to the applicable PBGC media sanitization practice.

System Manager(s) and Address:

Chief Information Officer, Office of Information Technology, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Telephone and PBGC-issued portable electronic device assignment records.

Exemptions Claimed for the System:

None.

PBGC-12: Personnel Security Investigation Records

System Name:

Personnel Security Investigation Records—PBGC.

Security Classification:

None.

System Location:

PBGC, 1200 K Street NW., Washington, DC 20005.

Records may also be kept at an additional location as backup for Continuity of Operations.

Categories of Individuals Covered by the System:

Current and former Applicants, employees, students, interns, volunteers, government contractors, experts, instructors, and consultants to Federal programs who undergo a personnel background investigation for the purpose of determining suitability for employment, contractor employee fitness, credentialing for Homeland Security Presidential Directive 12 (HSPD 12), and/or access to PBGG facilities or information technology system.

This system also includes individuals accused of or found in violation of PBGC's security rules and regulations.

Categories of Records in the System:

Name; former names; date and place of birth; home address; email address; phone numbers; employment history; residential history; education and degrees earned; citizenship; passport information; name, date and place of birth, social security number, and citizenship information for spouse or cohabitant; the name and marriage information for current and former spouse(s), names of associates and references and their contact information; names, dates and places of birth, citizenship, and addresses of relatives; names of relatives who work for the federal government; information on foreign contacts and activities; association records; information on loyalty to the United States; criminal history; mental health history; drug use; financial information; fingerprints; information from the Internal Revenue Service pertaining to income tax returns; credit reports; information pertaining to security clearances; other agency reports furnished to PBGC in connection with the background investigation process; summaries of personal and third party interviews conducted during the background investigation; results of suitability decisions; and other information developed from above.

Records pertaining to security violations may contain information pertaining to circumstances of the violation; witness statements; investigator's notes; and documentation of agency action taken in response to security violations.

Authority for Maintenance of the System:

29 U.S.C. 1302; 5 U.S.C. 3301; 44 U.S.C. 3101; Executive Order 10450; Executive Order 13488; 5 CFR 5.2; 5 CFR 731 and 736; 5 CFR 1400; OMB Circular No. A-130 Revised, Appendix III, 61 FR 6428; and HSPD 12.

Purpose(s):

The records in this system of records are used to document and support decisions as to the suitability, eligibility, and fitness for service of applicants for federal employment and contract positions, and may include students, interns, or volunteers, to the extent their duties require access to federal facilities, information, systems, or applications.

The records may also be used to help streamline and make more efficient the investigations and adjudications processes generally.

The records additionally may be used to document security violations and supervisory actions taken in response to such violations.

Routine Uses of Records Maintained in the System, Including Categories of Users and the Purposes of Such Uses:

Information about covered individuals may be disclosed without consent as permitted by the Privacy Act of 1974, 5 U.S.C. 552a(b), and:

1. General Routine Uses G1 through G14 apply to this system of records (see Prefatory Statement of General Routine Uses).

2. A record from this system of records may be disclosed to an authorized source from which information is requested in the course of an investigation, to the extent necessary to identify the individual, to inform the source of the nature and purpose of the investigation, or to identify the type of information requested.

3. A record from this system of records may be disclosed to the Office of Personnel Management, the Merit Systems Protection Board, the Federal Labor Relations Authority, or the Equal Employment Opportunity Commission to carry out its respective authorized functions (under 5 U.S.C. 1103, 1204, and 7105, and 42 U.S.C. 2000e-4, in that order).

Policies and Practices for Storing, Retrieving, Accessing, Retaining, and Disposing of Records in the System:

Storage:

Records are maintained in paper and/or electronic form, including computer databases, magnetic tapes, and discs. Records are also maintained on PBGC's network back-up tapes.

Retrievability:

Records are retrieved by any one or more of the following: Name; social security number; unique case serial number; or other unique identifier.

Safeguards:

PBGC has adopted appropriate administrative, technical, and physical controls in accordance with PBGC's security program to protect the security, integrity, and availability of the information, and to ensure that records are not disclosed to or accessed by unauthorized individuals.

Paper records are kept in file cabinets in areas of restricted access that are locked after office hours. Electronic records are stored on computer networks and protected by assigning both network and system-specific user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Director, Workplace Solutions Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Applications and other personnel and security forms, including but not limited to a SF-85, SF-85P, SF-86, SF-87 (via eQIP); personal interviews with various individuals, including but not limited to the subject of the investigation present and former employers, references, neighbors, and other associates who may have information about the subject of the investigation; investigative records and notices of personnel actions furnished by other federal agencies; public records such as court filings; publications such as newspapers, magazines, and periodicals; tax records; educational institutions; police departments; credit bureaus; probation officials; prison officials; and medical professionals.

Exemptions Claimed for the System:

Pursuant to 5 U.S.C. 552a(k)(2), records in this system are exempt from the requirements of subsections (c)(3), (d), (e)(1), (e)(4)(G), (H), (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government with an express promise that the identity of the source would be held in confidence.

Pursuant to 5 U.S.C. 552a(k)(5), records in this system are exempt from the requirements of subsections (c)(3), (d), (e)(1), (e)(4)(G), (H), (I), and (f) of 5 U.S.C. 552a, but only to the extent that the disclosure of such material would reveal the identity of a source who furnished information to the Government under an express promise that the identity of the source would be held in confidence.

PBGC-13: Debt Collection

System Name:

Debt Collection—PBGC.

Security Classification:

None.

System Location:

PBGC, 1200 K Street NW., Washington, DC 20005, and/or field benefit administrators, plan administrator, and paying agent worksites.

Records may also be kept at an additional location as back up for Continuity of Operations.

Categories of Individuals Covered by the System:

Any individual who may owe a debt to PBGC, including but not limited to: Pension plans and/or sponsors owing insurance premiums, interest, and penalties; employees and former employees of PBGC; individuals who are consultants and vendors to PBGC; participants, alternate payees, and beneficiaries in terminating and terminated pension plans covered by the Employee Retirement Income Security Act of 1974 (ERISA); and individuals who received payments to which they are not entitled.

Categories of Records in the System:

Pension plan filings; names; addresses; social security numbers; taxpayer identification numbers; employee numbers; pay records; travel vouchers and related documents filed by PBGC employees; invoices filed by consultants and vendors to PBGC; records of benefit payments made to participants, alternate payees, and beneficiaries in terminating and terminated pension plans covered by ERISA; and other relevant records relating to a debt including the amount, status, and history of the debt, and the program under which the debt arose.

Authority for Maintenance of the System:

29 U.S.C. 1302; 31 U.S.C. 3711(a); 44 U.S.C. 3101; 5 U.S.C. 301.

Purpose(s):

This system of records is maintained for the purpose of collecting debts owed to PBGC by various individuals, including, but not limited to, pension plans and/or sponsors owing insurance premiums, interest and penalties; PBGC employees and former employees; consultants and vendors; participants, alternate payees, and beneficiaries in terminating and terminated pension plans covered by ERISA; and individuals who received payments from PBGC to which they are not entitled. This system facilitates PBGC's compliance with the Debt Collection Improvement Act of 1996.

Routine Uses of Records Maintained in the System, Including Categories of Users and the Purposes of Such Uses:

Information about covered individuals may be disclosed without consent as permitted by the Privacy Act of 1974, 5 U.S.C. 552a(b), and:

1. General Routine Uses G1 through G14 apply to this system of records (see Prefatory Statement of General Routine Uses).

2. A record from this system of records may be disclosed to the United States Department of the Treasury for cross-servicing to effect debt collection in accordance with 31 U.S.C. 3711(e).

3. Names, addresses, and telephone numbers of employees, participants, and beneficiaries and information pertaining to debts owed by such individuals to PBGC may be disclosed to a debt collection agency or firm to collect a claim. Disclosure to a debt collection agency or firm shall be made only under a contract that binds any such contractor or employee of such contractor to the criminal penalties of the Privacy Act. The information so disclosed shall be used exclusively pursuant to the terms and conditions of such contract and shall be used solely for the purposes prescribed therein. The contract shall provide that the information so disclosed shall be returned at the conclusion of the debt collection effort.

4. These records may be used to disclose information to any Federal agency, state or local agency, U.S. territory or commonwealth, or the District of Columbia, or their agents or contractors, including private collection agencies (consumer and commercial):

a. To facilitate the collection of debts through the use of any combination of various debt collection methods required or authorized by law, including, but not limited to:

i. Request for repayment by telephone or in writing;

ii. Negotiation of voluntary repayment or compromise agreements;

iii. Offset of Federal payments, which may include the disclosure of information contained in the records for the purpose of providing the debtor with appropriate pre-offset notice and to otherwise comply with offset prerequisites, to facilitate voluntary repayment in lieu of offset, and to otherwise effectuate the offset process;

iv. Referral of debts to private collection agencies, to Treasury designated debt collection centers, or for litigation;

v. Administrative and court-ordered wage garnishment;

vi. Debt sales;

vii. Publication of names and identities of delinquent debtors in the media or other appropriate places; and

viii. Any other debt collection method authorized by law;

b. To collect a debt owed to the United States through the offset of payments made by states, territories, commonwealths, or the District of Columbia;

c. To account or report on the status of debts for which such entity has a financial or other legitimate need for the information in the performance of official duties; or,

d. For any other appropriate debt collection purpose.

Policies and Practices for Storing, Retrieving, Accessing, Retaining, and Disposing of Records in the System:

Storage:

Records are maintained in paper and/or electronic form, including computer databases, magnetic tapes, and discs. Records are also maintained on PBGC's network back-up tapes.

Retrievability:

Records are retrieved by any one or more of the following: Employer identification number; social security number; plan number; name of debtor, plan, plan sponsor, plan administrator, participant, alternate payee, or beneficiary.

Safeguards:

PBGC has adopted appropriate administrative, technical, and physical controls in accordance with PBGC's security program to protect the security, integrity, and availability of the information, and to ensure that records are not disclosed to or accessed by unauthorized individuals.

Paper records are kept in file folders in areas of restricted access that are locked after office hours. Electronic records are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Director, Financial Operations Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals; plan administrators; labor organization officials; debt collection agencies or firms; firms or agencies providing locator services; field benefit administrators, and other federal agencies.

Exemptions Claimed for the System:

None.

PBGC-14: My Plan Administration Account Records

System Name:

My Plan Administration Account Records—PBGC.

Security Classification:

None.

System Location:

PBGC, 1200 K Street NW., Washington, DC 20005.

Records may also be kept at an additional location as backup for Continuity of Operations.

Categories of Individuals Covered by the System:

Individuals who use the My Plan Administration Account (My PAA) application to make PBGC filings and payments electronically via PBGC's Web site (www.pbgc.gov), including individuals acting for plan sponsors, plan administrators, and pension practitioners such as enrolled actuaries and other benefit professionals.

Categories of Records in the System:

User's name; work telephone number; work email address; other contact information; a temporary PBGC-issued user ID and password; a user-selected user ID and password; a secret question/secret answer combination for authentication; IP addresses; for each pension plan for which the user intends to participate in making filings with PBGC: The plan name; employer identification number (EIN); plan number (PN); the plan administrator's name, address, phone number, email address, and other contact information; and the role that the user will play in the filing process, e.g., creating and editing filings, signing filings electronically as the plan administrator, signing filings electronically as the enrolled actuary, or authorizing payments to PBGC.

Authority for Maintenance of the System:

29 U.S.C. 1302, 1306, 1307, 1341, and 1343; 44 U.S.C. 3101; 5 U.S.C. 301.

Purpose(s):

This system of records is maintained for use in verifying the identity of individuals who register to use the My PAA application to make PBGC filings, and receiving, authenticating, processing, and keeping a history of filings and premium payments submitted to PBGC by registered users.

Routine Uses of Records Maintained in the System, Including Categories of Users and the Purposes of Such Uses:

Information about covered individuals may be disclosed without consent as permitted by the Privacy Act of 1974, 5 U.S.C. 552a(b), and:

1. PBGC General Routine Uses G1, G4 through G7; G9, G10, G12, and G14 apply to this system of records (see Prefatory Statement of General Routine Uses).

Policies and Practices for Storing, Retrieving, Accessing, Retaining, and Disposing of Records in the System:

Storage:

Records are maintained in electronic form, including computer databases, magnetic tapes and discs. Records are also maintained on PBGC's network back-up tapes.

Retrievability:

Records are retrieved by any one or more of the following: Name; user ID; email address; telephone number; plan name; EIN; or plan number.

Safeguards:

PBGC has adopted appropriate administrative, technical, and physical controls in accordance with PBGC's security program to protect the security, integrity, and availability of the information, and to ensure that records are not disclosed to unauthorized individuals.

Electronic records are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Director, Financial Operations Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Registered users.

Exemptions Claimed for the System:

None.

PBGC-15: Emergency Notification Records

System Name:

Emergency Notification Records—PBGC.

Security Classification:

None.

System Location:

PBGC, 1200 K Street NW., Washington, DC 20005.

Records may also be kept at an additional location as backup for Continuity of Operations.

Categories of Individuals Covered by the System:

PBGC employees and individuals who work for PBGC as contractors or as employees of contractors.

Categories of Records in the System:

Name; title; organizational component; employer; PBGC and personal telephone numbers; PBGC and personal email addresses; other contact information; user ID; a temporary PBGC-issued password; and a user-selected password.

Authority for Maintenance of the System:

29 U.S.C. 1302; 44 U.S.C. 3101; 5 U.S.C. 301; Executive Order 12656, 53 FR 47491 (1988); Presidential Decision Directive 67 (1998).

Purpose(s):

This system of records is maintained for notifying PBGC employees and individuals who work for PBGC as contractors or employees of contractors of PBGC's operating status in the event of an emergency, natural disaster or other event affecting PBGC operations; and for contacting employees or contractors who are out of the office on leave or after regular duty hours to obtain information necessary for official business.

Routine Uses of Records Maintained in the System, Including Categories of Users and the Purposes of Such Uses:

Information about covered individuals may be disclosed without consent as permitted by the Privacy Act of 1974, 5 U.S.C. 552a(b), and:

1. PBGC General Routine Uses G1, G4, G5, G7, and G9 through G11, and G14 apply to this system of records (see Prefatory Statement of General Routine Uses).

2. A record in this system of records may be disclosed to family members, emergency medical personnel, or to law enforcement officials in case of a medical or other emergency involving the subject individual (without the subsequent notification prescribed in 5 U.S.C. 552a(b)(8)).

Policies and Practices for Storing, Retrieving, Accessing, Retaining, and Disposing of Records in the System:

Storage:

Records are maintained in paper and electronic form, including magnetic tapes and discs. Records are also maintained on PBGC's network back-up tapes.

Retrievability:

Records are retrieved by any one or more of the following: Name; organizational component; or user ID and password.

Safeguards:

PBGC has adopted appropriate administrative, technical, and physical controls in accordance with PBGC's security program to protect the security, integrity, and availability of the information, and to ensure that records are not disclosed to or accessed by unauthorized individuals.

Paper records are kept in locked file cabinets in areas of restricted access. Electronic records are stored on computer networks and protected by assigning both network and system-specific usernames and passwords to individuals needing access to the records.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Director, Workplace Solutions Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedures:

An employee or contractor may access his or her record with a valid user-id and password via the electronic notification and messaging system through PBGC's intranet Web site, or by following the Notification Procedures above.

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals.

Exemptions Claimed for the System:

None.

PBGC-16: PBGC Connect Search Center

System Name:

PBGC Connect Search Center—PBGC.

Security Classification:

None.

System Location:

PBGC, 1200 K Street NW., Washington, DC 20005.

Records may also be kept at an additional location as backup for Continuity of Operations.

Categories of Individuals Covered by the System:

PBGC employees and contractors with PBGC network access.

Categories of Records in the System:

Name; photograph; personal description; skills; interests; schools; birthday; mobile phone number; home phone number; organizational component and title; supervisor's name; PBGC street address; room or workstation number; PBGC network ID; work email address; and work telephone number and extension.

Authority for Maintenance of the System:

29 U.S.C. 1302; 44 U.S.C. 3101; 5 U.S.C. 301.

Purpose(s):

This system of records is used by PBGC employees and contractors to identify other PBGC employees and to access contact information for PBGC employees.

Routine Uses of Records Maintained in the System, Including Categories of Users and the Purposes of Such Uses:

Information about covered individuals may be disclosed without consent as permitted by the Privacy Act of 1974, 5 U.S.C. 552a(b), and:

1. PBGC General Routine Uses G1 through G14 apply to this system of records (see Prefatory Statement of General Routine Uses).

Policies and Practices for Storing, Retrieving, Accessing, Retaining, and Disposing of Records in the System:

Storage:

Records are maintained in an electronic database. Records are also maintained on PBGC's network back-up tapes.

Retrievability:

Records are retrieved by any one or more of the following: Name; username; organizational component; job title; work phone number; office number; supervisor; work email; skills; interests; birth date; education; peers; and employee type (federal or contractor).

Safeguards:

PBGC has adopted appropriate administrative, technical, and physical controls in accordance with PBGC's security program to protect the security, integrity, and availability of information, and to ensure that records are not disclosed to or accessed by unauthorized individuals.

Electronic records are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Division Manager, Information Technology Customer and Operations Service Division, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals and PBGC personnel records.

Exemptions Claimed for the System:

None.

PBGC-17: Office of Inspector General Investigative File System

System Name:

Office of Inspector General Investigative File System—PBGC.

Security Classification:

None.

System Location:

Office of Inspector General, PBGC, 1200 K Street, NW., Washington DC, 20005.

Records may also be kept at an additional location as backup for Continuity of Operations.

Categories of Individuals Covered by the System:

Individuals named in investigations conducted by the Office of Inspector General (OIG); complainants and subjects of complaints collected through the operation of the OIG Hotline; other individuals, including witnesses, sources, and members of the general public who are named individuals in connection with investigations conducted by OIG.

Categories of Records in the System:

Information within this system relates to OIG investigations carried out under applicable statutes, regulations, policies, and procedures. The investigations may relate to criminal, civil, or administrative matters. These OIG files may contain investigative reports; copies of personnel, financial, contractual, and property management records maintained by PBGC; information submitted by or about pension plan sponsors or plan participants; background data including arrest records, statements of informants and witnesses, and laboratory reports of evidence analysis; search warrants, summonses and subpoenas; and other information related to investigations. Personal data in the system may consist of names, social security numbers, addresses, dates of birth and death, fingerprints, handwriting samples, reports of confidential informants, physical identifying data, voiceprints, polygraph tests, photographs, and individual personnel and payroll information.

Authority for Maintenance of the System:

5 U.S.C. App. 3.

Purpose(s):

This system of records is used to supervise and conduct investigations relating to programs and operations of PBGC.

Routine Uses of Records Maintained in the System, including Categories of Users and the Purposes of Such Uses:

Information about covered individuals may be disclosed without consent as permitted by the Privacy Act of 1974, 5 U.S.C. 552a(b), and:

1. PBGC General Routine Uses G1, G2, G4, G5, G7, and G9 through G14 apply to this system of records (see Prefatory Statement of General Routine Uses).

2. A record relating to a person held in custody pending or during arraignment, trial, sentence, or extradition proceedings or after conviction may be disclosed to a federal, state, local, or foreign prison; probation, parole, or pardon authority; or any other agency or individual involved with the maintenance, transportation, or release of such a person.

3. A record relating to a case or matter may be disclosed to an actual or potential party or his or her attorney for the purpose of negotiation or discussion on such matters as settlement of the case or matter, plea bargaining, or informal discovery proceedings.

4. A record may be disclosed to any source, either private or governmental, when reasonably necessary to elicit information or obtain the cooperation of a witness or informant when conducting any official investigation or during a trial or hearing or when preparing for a trial or hearing.

5. A record relating to a case or matter may be disclosed to a foreign country, through the United States Department of State or directly to the representative of such country, under an international treaty, convention, or executive agreement; or to the extent necessary to assist such country in apprehending or returning a fugitive to a jurisdiction that seeks that individual's return.

6. A record originating exclusively within this system of records may be disclosed to other federal offices of inspectors general and councils comprising officials from other federal offices of inspectors general, as required by the Inspector General Act of 1978, as amended. The purpose is to ensure that OIG investigative operations can be subject to integrity and efficiency peer reviews, and to permit other offices of inspectors general to investigate and report on allegations of misconduct by senior OIG officials as directed by a council, the President, or Congress. Records originating from any other PBGC systems of records, which may be duplicated in or incorporated into this system, also may be disclosed with all personally identifiable information redacted.

7. A record may be disclosed to the Department of the Treasury and the Department of Justice when the OIG seeks an ex parte court order to obtain taxpayer information from the Internal Revenue Service.

8. A record may be disclosed to any governmental, professional or licensing authority when such record reflects on qualifications, either moral, educational or vocational, of an individual seeking to be licensed or to maintain a license.

9. A record may be disclosed to any direct or indirect recipient of federal funds, e.g., a contractor, where such record reflects problems with the personnel working for a recipient, and disclosure of the record is made to permit a recipient to take corrective action beneficial to the Government.

Policies and Practices for Storing, Retrieving, Accessing, Retaining, and Disposing of Records in the System:

Storage:

Records are maintained in paper and/or electronic form, including computer databases, magnetic tapes, discs, and an automated database.

Retrievability:

Records may be retrieved by any one or more of the following: Name; social security number; subject category; or assigned case number.

Safeguards:

PBGC has adopted appropriate administrative, technical, and physical controls in accordance with PBGC's security program to protect the security, integrity, and availability of the information, and to ensure that records are not disclosed to or accessed by unauthorized individuals.

Paper records, computers, and computer-storage media are located in controlled-access areas under supervision of program personnel. Access to these areas is limited to authorized personnel, who must be identified with a badge. Access to records is limited to individuals whose official duties require such access. Contractors and licensees are subject to contract controls and unannounced on-site audits and inspections. Computers are protected by mechanical locks, card-key systems, or other physical-access control methods. The use of computer systems is regulated with installed security software, computer-logon identifications, and operating-system controls including access controls, terminal and transaction logging, and file-management software.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Inspector General, PBGC, 1200 K Street NW., Washington, DC 20005.

Notification Procedure:

This system is exempt from the notification requirements. However, consideration will be given to inquiries made in compliance with 29 CFR 4902.3.

Record Access Procedure:

This system is exempt from the access requirements. However, consideration will be given to requests made in compliance with 29 CFR 4902.3.

Contesting Record Procedure:

This system is exempt from the notification requirements. However, consideration will be given requests made in compliance with 29 CFR 4902.3.

Record Source Categories:

Subject individuals; individual complainants; witnesses; interviews conducted during investigations; federal, state and local government records; individual or company records; claim and payment files; employer medical records; insurance records; court records; articles from publications; financial data; bank information; telephone data; service providers; other law enforcement organizations; grantees and subgrantees; contractors and subcontractors; pension plan sponsors and participants; and other sources.

Exemptions Claimed for the System:

Pursuant to 5 U.S.C. 552a(j) and (k), PBGC has established regulations at 29 CFR 4902.11 that exempt records in this system depending on their purpose.

PBGC-19: Office of General Counsel Case Management System

System Name:

Office of General Counsel Case Management System—PBGC.

Security Classification:

None.

System Location:

PBGC, 1200 and 1275 K Street NW., Washington, DC 20005.

Records may also be kept at an additional location as backup for Continuity of Operations.

Categories of Individuals Covered by the System:

Individuals who are participants, beneficiaries, and alternate payees in pension plans covered by the Employee Retirement Income Security Act of 1974 (ERISA); pension plan sponsors, administrators, control group members and third parties, who are responsible for, manage, or have control over ERISA pension plans; other individuals who are identified in connection with investigations conducted pursuant to section 4003(a) of ERISA and/or litigation conducted with regard to ERISA pension plans; individuals (including PBGC employees) who are parties or witnesses in civil litigation or administrative proceedings involving or concerning PBGC or its officers or employees; individuals who are the subject of a breach of personally identifiable information; individuals who are potential contractors or contractors with PBGC or are otherwise personally associated with a contract or procurement matter; individuals who receive legal advice from the Office of General Counsel; and other individuals (including current, former, and potential PBGC employees, contract employees, interns, externs, and volunteers) who are the subject of or are otherwise connected to an inquiry, investigation, other matter handled by the Office of General Counsel.

Categories of Records in the System:

Notes, reports, memoranda; settlements; agreements; correspondence; contracts; contract proposal and other procurement documents; plan documents; participant, alternate payee, and beneficiary files; initial and final PBGC determinations of ERISA matters; Freedom of Information Act and the Privacy Act appeals and decisions of those appeals; drafts and legal reviews of proposed personnel actions; personnel records; litigation files; labor relations files; information provided by labor unions or other organizations; witness statements; summonses and subpoenas, discovery requests and responses; and breach reports and supporting documentation.

Authority for Maintenance of the System:

29 U.S.C. 1055, 1056(d)(3), 1302, 1303, 1310, 1321, 1322, 1322a, 1341, 1342, 1343 and 1350; 5 U.S.C. app. 105; 5 U.S.C. 301, 552a(d), 552(a), 7101; 42 U.S.C. 2000e et seq.; 44 U.S.C. 3101.

Purpose(s):

The purpose of this system of records is to catalog, litigate, or otherwise resolve any case or matter handled by the following practice groups of the Office of the General Counsel: General Law and Ethics Group, General Law and Procurement Group, Litigation and Employment Law Group, Legal Technology & Administration Division, and ERISA Counseling Group.

Routine Uses of Records Maintained in the System, Including Categories of Users and the Purposes of Such Uses:

Information about covered individuals may be disclosed without consent as permitted by the Privacy Act of 1974, 5 U.S.C. 552a(b), and:

1. PBGC General Routine Uses G1 through G14 apply to this system of records (see Prefatory Statement of General Routine Uses).

2. A record from this system of records may be disclosed, in furtherance of proceedings under Title IV of ERISA, to a contributing sponsor (or other employer who maintained the plan), including any predecessor or successor, and any member of the same controlled group.

3. Names, addresses, and telephone numbers of employees, former employees, participants, and beneficiaries and information pertaining to debts to PBGC may be disclosed to the Department of Treasury, the Department of Justice, a credit agency, and a debt collection firm to collect the debt. Disclosure to a debt collection firm shall be made only under a contract that binds any such contractor or employee of such contractor to the criminal penalties of the Privacy Act.

4. Information may be disclosed to a court, magistrate, or administrative tribunal in the course of presenting evidence, including disclosures to opposing counsel or witnesses in the course of civil discovery, litigation, or settlement negotiations in response to a court order or in connection with criminal law proceedings.

5. Information may be provided to a congressional office in response to an inquiry made at the request of the individual to whom the record pertains.

6. Information may be provided to third parties during the course of an investigation to the extent necessary to obtain information pertinent to the investigation.

7. Relevant and necessary information may be disclosed to a former employee of PBGC for the purposes of: (1) Responding to an official inquiry by federal, state, or local government entity or professional licensing authority; or, (2) facilitating communications with a former employee that may be necessary for personnel-related or other official purposes where PBGC requires information and/or consultation assistance from the former employee regarding a matter within that person's former area of responsibility.

8. A record relating to a case or matter may be disseminated to a foreign country pursuant to an international treaty or convention entered into and ratified by the United States or to an executive agreement.

9. A record may be disseminated to a foreign country, through the United States Department of State or directly to the representative of such country, to the extent necessary to assist such country in civil or criminal proceedings in which the United States or one of its officers or agencies has an interest.

10. A record from this system of records may be disclosed to the National Archives and Records Administration, Office of Government Information Services (OGIS), to the extent necessary to fulfill its responsibilities in 5 U.S.C. 552(h), to review administrative agency policies, procedures and compliance with the Freedom of Information Act, and to facilitate OGIS' offering of mediation services to resolve disputes between persons making FOIA requests and administrative agencies.

Policies and Practices for Storing, Retrieving, Accessing, Retaining, and Disposing of Records in the System:

Storage:

Records are maintained in paper and/or electronic form, including computer databases, magnetic tapes, and discs. Records are also maintained on PBGC's network back-up tapes.

Retrievability:

Records are indexed by assigned case number and sequential record ID. Records are full-text indexed and thus can be retrieved by any free-form key, which may include names or other personal identifiers.

Safeguards:

PBGC has adopted appropriate administrative, technical, and physical controls in accordance with PBGC's security program to protect the security, integrity, and availability of the information, and to ensure that records are not disclosed to or accessed by unauthorized individuals.

Paper records are kept in file folders in areas of restricted access that are locked after office hours.

Electronic records are stored on computer networks and protected by assigning unique user identification numbers to individuals who are authorized to access the records, and by passwords set by these users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Associate General Counsel, PBGC, 1200 K Street NW., Washington, DC 20005.

Notification Procedure: Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals; pension plan participants, sponsors, administrators and third-parties; federal government records; current and former employees, contractors, interns, and externs; PBGC claim and payment files; insurers; the Social Security Administration; labor organizations; court records; articles from publications; and other individuals, organizations, and corporate entities with relevant knowledge/information.

Systems Exempted From Certain Provisions of the Act:

Pursuant to 5 U.S.C. 552a(k)(2), records in this system are exempt from the requirements of subsections (c)(3), (d), (e)(1), (e)(4)(G), (H), (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government with an express promise that the identity of the source would be held in confidence.

PBGC-21: Reasonable Accommodation Records

System Name:

Reasonable Accommodation Records—PBGC.

Security Classification:

None.

System Location:

PBGC, 1200 K Street NW., Washington, DC 20005.

Records may also be kept at an additional location as backup for Continuity of Operations.

Categories of Individuals Covered by the System:

Prospective, current, and former employees of PBGC who request and/or receive a reasonable accommodation for a disability; and authorized individuals or representatives (e.g., family members, union representatives, or attorneys) who file a request for a reasonable accommodation on behalf of a prospective, current, or former employee.

Categories of Records in the System:

Name and employment information of employee needing an accommodation; requester's name and contact information (if different than the employee who needs an accommodation); date request was initiated; information concerning the nature of the disability and the need for accommodation, including appropriate medical documentation; details of the accommodation request, such as: Type of accommodation requested, how the requested accommodation would assist in job performance, the sources of technical assistance consulted in trying to identify alternative reasonable accommodation, any additional information provided by the requester relating to the processing of the request, and whether the request was approved or denied, and whether the accommodation was approved for a trial period; notification(s) to the employee and his/her supervisor(s) regarding the accommodation.

Authority for Maintenance of the System:

29 U.S.C. 1302; 44 U.S.C. 3101; 5 U.S.C. 301; 29 U.S.C. 701 et seq.; 42 U.S.C. 12101 et seq.; Executive Order 13164 (July 26, 2000); and Executive Order 13548 (July 26, 2010).

Purpose(s):

The purposes of this system are: (1) To allow PBGC to collect and maintain records on prospective, current, and former employees with disabilities who requested or received reasonable accommodation by PBGC; (2) to track and report the processing of requests for reasonable accommodation PBGC-wide to comply with applicable law and regulations; and (3) to preserve and maintain the confidentiality of medical information submitted by or on behalf of applicants or employees requesting reasonable accommodation.

Routine Uses of Records Maintained in the System, Including Categories of Users and the Purposes of Such Uses:

Information about covered individuals may be disclosed without consent as permitted by the Privacy Act of 1974, 5 U.S.C. 552a(b), and:

1. General Routine Uses G1 through G14 apply to this system of records (see Prefatory Statement of General Routine Uses).

2. A record from this system of records may be disclosed to physicians or other medical professionals to provide them with or obtain from them the necessary medical documentation and/or certification for reasonable accommodation.

3. A record from this system of records may be disclosed to another federal agency or commission with responsibility for labor or employment relations or other issues, including equal employment opportunity and reasonable accommodation issues, when that agency or commission has jurisdiction over reasonable accommodation issues.

4. A record from this system of records may be disclosed to the Office of Management and Budget (OMB), Department of Labor (DOL), Office of Personnel Management (OPM), Equal Employment Opportunity Commission (EEOC), or Office of Special Counsel (OSC) to obtain advice regarding statutory, regulatory, policy, and other requirements related to reasonable accommodation.

5. A record from this system of records may be disclosed to appropriate third-parties contracted by the Agency to facilitate mediation or other dispute resolution procedures or programs.

6. A record from this system of records may be disclosed to the Department of Defense (DOD) for purposes of procuring assistive technologies and services through the Computer/Electronic Accommodation Program in response to a request for reasonable accommodation.

Policies and Practices for Storing, Retrieving, Accessing, Retaining, and Disposing of Records in the System:

Storage:

Records are maintained in paper and in electronic form, including computer databases.

Retrievability:

Records are retrieved by any one or more of the following: Employee name or assigned case number.

Safeguards:

PBGC has adopted appropriate administrative, technical, and physical controls in accordance with PBGC's security program to protect the security, integrity, and availability of the information, and to ensure that records are not disclosed to or accessed by unauthorized individuals.

Paper records are kept in file cabinets in areas of restricted access that are locked after office hours. Only authorized personnel may be given access to either the secured area or the locked file cabinet.

Electronic records are stored on computer networks and protected by assigning both network and system-specific user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Reasonable Accommodation Coordinator, Human Resources Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals; individual making the request (if different than the subject individuals); medical professionals; and the subject individuals' supervisor(s).

Exemptions Claimed for the System:

None.

PBGC-22: Telework and Alternative Worksite Records

System Name:

Telework and Alternative Worksite Records—PBGC.

Security Classification:

None.

System Location:

PBGC, 1200 K Street NW., Washington, DC 20005.

Records may also be kept at an additional location as backup for Continuity of Operations.

Categories of Individuals Covered by the System:

Prospective, current, and former employees of PBGC who have been granted or denied authorization to participate in PBGC's Telework Program to work at an alternative worksite apart from their official PBGC duty station.

Categories of Records in the System:

Name, position title, grade, job series, and department name; official PBGC duty station address and telephone number; alternative worksite address and telephone number(s); date telework agreement received and approved/denied; telework request and approval form; telework agreement, self-certification home safety checklist, and supervisor-employee checklist; type of telework requested (e.g., episodic or regular); regular work schedule; telework schedule; approvals/disapprovals; description and list of government-owned equipment and software provided to the teleworker; mass transit benefits received through PBGC's mass transit subsidy program; parking subsidies received through PBGC's subsidized parking program; and any other miscellaneous documents supporting telework.

Authority for Maintenance of the System:

29 U.S.C. 1302; 44 U.S.C. 3101; 5 U.S.C. 301; 5 U.S.C. 6120.

Purpose(s):

The purpose of this system of records is to collect and maintain records on prospective, current, and former employees who have participated in, presently participate in, or have sought to participate in PBGC's Telework Program.

Routine Uses of Records Maintained in the System, Including Categories of Users and the Purposes of Such Uses:

Information about covered individuals may be disclosed without consent as permitted by the Privacy Act of 1974, 5 U.S.C. 552a(b), and:

1. General Routine Uses G1 through G14 apply to this system of records (see Prefatory Statement of General Routine Uses).

2. A record from this system may be disclosed to federal, state, or local governments during actual emergencies, exercises, or continuity of operations tests for the purposes of emergency preparedness and responding to emergency situations.

3. A record from this system may be disclosed to the Department of Labor when an employee is injured when working at home while in the performance of normal duties.

4. A record from this system may be disclosed to the Office of Personnel Management (OPM) for use in its Telework Survey to provide consolidated data on participation in PBGC's Telework Program.

5. A record from this system of records may be disclosed to appropriate third-parties contracted by the Agency to facilitate mediation or other dispute resolution procedures or programs.

Policies and Practices for Storing, Retrieving, Accessing, Retaining, and Disposing of Records in the System:

Storage:

Records are maintained in paper and electronic form, including computer databases, magnetic tapes, and discs. Records are also maintained on PBGC's network back-up tapes.

Also, each of PBGC's departments has a Telework Liaison who maintains copies of the records pertaining to employees working in his or her department.

Retrievability:

Records are retrieved by any one or more of the following: Employee name; and the department in which the employee works, will work, or previously worked.

Safeguards:

PBGC has adopted appropriate administrative, technical, and physical controls in accordance with PBGC's security program to protect the security, integrity, and availability of the information, and to ensure that records are not disclosed to or accessed by unauthorized individuals.

Paper records are kept in file cabinets in areas of restricted access that are locked after office hours. Only authorized personnel may be given access to either the secured area or the locked file cabinet.

Electronic records are stored on computer networks and protected by assigning both network and system-specific user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Agency Telework Managing Officer, Workplace Solutions Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals; subject individuals' supervisors.

Exemptions Claimed for the System:

None.

PBGC-23: Internal Investigations of Allegations of Harassing Conduct

System Name:

Internal Investigations of Allegations of Harassing Conduct—PBGC

Security Classification:

None.

System Location:

PBGC, 1200 K Street NW., Washington, DC 20005.

Records may also be kept at an additional location as backup for Continuity of Operations.

Categories of Individuals Covered By the System:

Current or former PBGC employees, contractors, and interns who have filed a complaint or made a report of harassment, or have been accused of harassing conduct.

Categories of Records in the System:

The system contains all documents related to a complaint or report of harassment, which may include the name, position, grade, and supervisor(s) of the complainant and the accused; the complaint; statements of witnesses; reports of interviews; final decisions and corrective actions taken; and related correspondence and exhibits.

Authority for Maintenance of the System:

29 U.S.C. 1302; 44 U.S.C. 3101; 5 U.S.C. 301; 42 U.S.C. 2000e et seq.

Purpose:

This system of records is maintained for the purpose of upholding PBGC's policy to prevent and eradicate harassing conduct in the workplace, including conducting and resolving internal investigations of allegations of harassing conduct brought by or against PBGC employees.

Routine Uses of Records Maintained in the System, Including Categories of Users and the Purposes of Such Uses:

Information about covered individuals may be disclosed without consent as permitted by the Privacy Act of 1974, 5 U.S.C. 552a(b), and:

1. PBGC General Routine Uses G1 through G14 apply to this system of records (see Prefatory Statement of General Routine Uses).

2. Disclosure of information from this system of records regarding the status of any investigation that may have been conducted may be made to the complaining party and to the individual against whom the complaint was made when the purpose of the disclosure is both relevant and necessary and is compatible with the purpose for which the information was collected.

Policies and Practices for Storing, Retrieving, Accessing, Retaining, and Disposing of Records in the System:

Storage:

Records are maintained in paper and/or electronic form, including computer databases, magnetic tapes, and discs. Records are also maintained on PBGC's network back-up tapes.

Retrievability:

Records are retrieved by any one or more of the following: name; department; or unique identifier assigned to each incident reported.

Safeguards:

PBGC has adopted appropriate administrative, technical, and physical controls in accordance with PBGC's security program to protect the security, integrity, and availability of the information, and to ensure that records are not disclosed to or accessed by unauthorized individuals.

Paper records are kept in cabinets in areas of restricted access that are locked after office hours. Electronic records are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Managers and Address:

Director, Human Resources Department, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals; PBGC supervisors, employees, contractors, and others with knowledge; outside counsel retained by subject individuals; and medical professionals.

Exemptions Claimed for the System:

Pursuant to 5 U.S.C. 552a(k)(2), records in this system are exempt from the requirements of subsections (c)(3), (d), (e)(1), (e)(4)(G), (H), (I), and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government with an express promise that the identity of the source would be held in confidence.

PBGC-24: Participant Debt Collection

System Name:

Participant Debt Collection—PBGC.

Security Classification:

None.

System Location:

PBGC, 1200 K Street NW., Washington, DC 20005, and/or field benefit administrators, plan administrator, and paying agent worksites.

Records may also be kept at an additional location as back up for Continuity of Operations.

Categories of Individuals Covered by the System:

Any individual who may owe a debt to PBGC, including but not limited to: Participants, alternate payees, and beneficiaries in terminating and terminated pension plans covered by ERISA; and individuals who received payments to which they are not entitled.

Categories of Records in the System:

Pension plan filings; names; addresses; social security numbers; taxpayer identification numbers; records of benefit payments made to participants, alternate payees, and beneficiaries in terminating and terminated pension plans covered by ERISA; and other relevant records relating to a debt including the amount, status, and history of the debt, and the program under which the debt arose.

Authority for Maintenance of the System:

29 U.S.C. 1302; 31 U.S.C. 3711(a); 44 U.S.C. 3101; 5 U.S.C. 301.

Purpose(s):

This system of records is maintained for the purpose of collecting debts owed to PBGC by various individuals, including, but not limited to: Participants, alternate payees, and beneficiaries in terminating and terminated pension plans covered by the Employee Retirement Income Security Act of 1974 (ERISA); and individuals who received payments from PBGC to which they are not entitled. This system facilitates PBGC's compliance with the Debt Collection Improvement Act of 1996.

Routine Uses of Records Maintained in the System, Including Categories of Users and the Purposes of Such Uses:

Information about covered individuals may be disclosed without consent as permitted by the Privacy Act of 1974, 5 U.S.C. 552a(b), and:

1. General Routine Uses G1 through G14 apply to this system of records (see Prefatory Statement of General Routine Uses).

2. A record from this system of records may be disclosed to the United States Department of the Treasury for cross-servicing to effect debt collection in accordance with 31 U.S.C. 3711(e).

3. Names, addresses, and telephone numbers of participants and beneficiaries and information pertaining to debts owed by such individuals to PBGC may be disclosed to a debt collection agency or firm to collect a claim. Disclosure to a debt collection agency or firm shall be made only under a contract that binds any such contractor or employee of such contractor to the criminal penalties of the Privacy Act. The information so disclosed shall be used exclusively pursuant to the terms and conditions of such contract and shall be used solely for the purposes prescribed therein. The contract shall provide that the information so disclosed shall be returned at the conclusion of the debt collection effort.

4. These records may be used to disclose information to any Federal agency, state or local agency, U.S. territory or commonwealth, or the District of Columbia, or their agents or contractors, including private collection agencies (consumer and commercial):

a. To facilitate the collection of debts through the use of any combination of various debt collection methods required or authorized by law, including, but not limited to:

i. Request for repayment by telephone or in writing;

ii. Negotiation of voluntary repayment or compromise agreements;

iii. Offset of Federal payments, which may include the disclosure of information contained in the records for the purpose of providing the debtor with appropriate pre-offset notice and to otherwise comply with offset prerequisites, to facilitate voluntary repayment in lieu of offset, and to otherwise effectuate the offset process;

iv. Referral of debts to private collection agencies, to Treasury designated debt collection centers, or for litigation;

v. Administrative and court-ordered wage garnishment;

vi. Debt sales;

vii. Publication of names and identities of delinquent debtors in the media or other appropriate places; and

viii. Any other debt collection method authorized by law;

b. To collect a debt owed to the United States through the offset of payments made by states, territories, commonwealths, or the District of Columbia;

c. To account or report on the status of debts for which such entity has a financial or other legitimate need for the information in the performance of official duties; or,

d. For any other appropriate debt collection purpose.

Policies and Practices for Storing, Retrieving, Accessing, Retaining, and Disposing of Records in the System:

Storage:

Records are maintained in paper and/or electronic form, including computer databases, magnetic tapes, and discs. Records are also maintained on PBGC's network back-up tapes.

Retrievability:

Records are retrieved by any one or more of the following: Employer identification number; social security number; plan number; recovery tracking number, name of debtor, plan, plan sponsor, plan administrator, participant, alternate payee, or beneficiary.

Safeguards:

PBGC has adopted appropriate administrative, technical, and physical controls in accordance with PBGC's security program to protect the security, integrity, and availability of the information, and to ensure that records are not disclosed to or accessed by unauthorized individuals.

Paper records are kept in file folders in areas of restricted access that are locked after office hours. Electronic records are stored on computer networks and protected by assigning user identification numbers to individuals needing access to the records and by passwords set by authorized users that must be changed periodically.

Retention and Disposal:

Records are maintained in accordance with the General Records Retention Schedules issued by the National Archives and Records Administration (NARA) or a PBGC records disposition schedule approved by NARA.

Records existing on paper are destroyed beyond recognition. Records existing on computer storage media are destroyed according to the applicable PBGC media sanitization practice.

System Manager(s) and Address:

Chief of Benefits Administration, Office of Benefits Administration, PBGC, 1200 K Street NW., Washington, DC 20005.

Notification Procedure:

Individuals wishing to learn whether this system of records contains information about them should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Record Access Procedure:

Individuals wishing to request access to their records should submit a written request to the Disclosure Officer, PBGC, 1200 K Street NW., Washington, DC 20005, and provide the following information:

a. Full name.

b. Any available information regarding the type of record involved.

c. The address to which the record information should be sent.

d. You must sign your request.

Attorneys or other persons acting on behalf of an individual must provide written authorization from that individual for the representative to act on their behalf.

Individuals requesting access must also comply with PBGC's Privacy Act regulations regarding verification of identity and access to records (29 CFR 4902.3).

Contesting Record Procedure:

Individuals wishing to request an amendment to their records should submit a written request to the Disclosure Officer, PBGC, 1200 K Street NW., Washington, DC 20005, and provide the following information:

a. Full name.

b. Any available information regarding the type of record involved.

c. A statement specifying the changes to be made in the records and the justification therefor.

d. The address to which the response should be sent.

e. You must sign your request.

Attorneys or other persons acting on behalf of an individual must provide written authorization from that individual for the representative to act on their behalf.

Record Source Categories:

Subject individuals; plan administrators; labor organization officials; debt collection agencies or firms; firms or agencies providing locator services; field benefit administrators, and other federal agencies.

Exemptions Claimed for the System:

None.

[FR Doc. 2016-21975 Filed 9-13-16; 8:45 am]

BILLING CODE 7709-02-P